DEPARTMENT OF STATE

[Delegation of Authority No. 448]

Delegation of Authority To Concur With Department of Defense Humanitarian and Civic Assistance Activities

By virtue of the authority vested in the Secretary of State by the laws of the United States, including section 1 of the State Department Basic Authorities Act, I hereby delegate to the Under Secretary for Arms Control and International Security, to the extent authorized by law, the authority to concur with the Secretary of Defense on humanitarian and civic assistance activities.

Notwithstanding this delegation of authority, any function or authority delegated herein may be exercised by the Secretary and the Deputy Secretary. The authority delegated herein may be re-delegated, to the extent authorized by law. Any reference in this delegation of authority to any statute or delegation of authority shall be deemed to be a reference to such statute or delegation of authority as amended from time to time.

This delegation of authority shall be published in the Federal Register.

Dated: June 29, 2018.
Michael R. Pompeo,
Secretary of State, Department of State.

[FR Doc. 2018-16782 Filed 8-3-18; 8:45 am]

BILLING CODE 4710-05-P